FEDERAL COMMUNICATIONS COMMISSION

47 CFR Part 1

[GN Docket No. 12-268, WT Docket Nos. 14-70, 05-211, RM-11395; FCC 15-80]

Updating Competitive Bidding Rules

AGENCY: Federal Communications Commission.

ACTION: Final rule; announcement of effective date.

SUMMARY: In this document, the Commission announces that the Office of Management and Budget (OMB) approved on May 23, 2016, an information collection for FCC Form 611-T, FCC Wireless Telecommunications Bureau Annual Report Related to Eligibility for Designated Entity Benefits and 47 CFR 1.2110(n) contained in the Report and Order, FCC 15-80. This document is consistent with the Report and Order, which stated that the Commission would publish a document in the Federal Register announcing OMB approval and the effective date of the requirements.

DATES: 47 CFR 1.2110(n), published at 80 FR 56764 on September 18, 2015 and revised FCC Form 611-T, are effective on July 8, 2016.

FOR FURTHER INFORMATION CONTACT: For additional information contact Cathy Williams, Cathy.Williams@fcc.gov, (202) 418-2918.

SUPPLEMENTARY INFORMATION: This document announces that, on May 23, 2016, OMB approved the information collection requirements for FCC Form 611-T, FCC Wireless Telecommunication Bureau Annual Report Related to Eligibility for Designated Entity Benefits and 47 CFR 1.2110(n) contained in the Report and Order, FCC 15-80. The OMB Control Number is 3060-1092. If you have any comments on the burden estimates listed below, or how the Commission can improve the collections and reduce any burdens caused thereby, please contact Cathy Williams, Federal Communications Commission, Room 1-C823, 445 12th Street SW., Washington, DC 20554. Please include the OMB Control Number, 3060-1092, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on May 23, 2016, for the information collection requirements contained in the information collection 3060-1092. Under 5 CFR 1320, an agency may not conduct or sponsor a collection of information unless it displays a current, valid OMB Control Number. No person shall be subject to any penalty for failing to comply with a collection of information subject to the Paperwork Reduction Act that does not display a current, valid OMB Control Number. The OMB Control Number is 3060-1092. The foregoing document is required by the Paperwork Reduction Act of 1995, Public Law 104-13, October 1, 1995, and 44 U.S.C. 3507.

The total annual reporting burdens and costs for the respondents are as follows:

OMB Control Number: 3060-1092.

OMB Approval Date: May 23, 2016.

OMB Expiration Date: January 31, 2017.

Title: Interim Procedures for Filing Applicants Seeking Approval for Designated Entity Reportable Eligibility Events and Annual Reports.

Form Number: FCC Form 611-T and FCC Form 609-T (only Form 611-T was revised with this submission to OMB).

Respondents: Business or other for-profit entities; Not for Profit Institutions; and State, Local or Tribal Government.

Number of Respondents and Responses: 1,100 respondents and 2,750 responses.

Estimated Hours per Response: 0.50 to 6 hours.

Frequency of Response: On occasion and annual reporting requirements.

Total Annual Burden: 7,288 hours.

Total Annual Costs: 2,223,375.

Obligation to Respond: Required to obtain or retain benefits. The statutory authority for this information collection is contained in 47 U.S.C. 4(i), 308(b), 309(j)(3) and 309(j)(4).

Nature and Extent of Confidentiality: There is no need for confidentiality required with this collection of information.

Privacy Impact Assessment: No impact(s).

Needs and Uses: On July 20, 2015, the Commission released the Part 1 R&O in which it updated many of its Part 1 competitive bidding rules (See Updating Part 1 Competitive Bidding Rules; Expanding the Economic and Innovation Opportunities of Spectrum Through Incentive Auctions; Petition of DIRECTV Group, Inc. and EchoStar LLC for Expedited Rulemaking to Amend Section 1.2105(a)(2)(xi) and 1.2106(a) of the Commission's Rules and/or for Interim Conditional Waiver; Implementation of the Commercial Spectrum Enhancement Act and Modernization of the Commission's Competitive Bidding Rules and Procedures, Report and Order, Order on Reconsideration of the First Report and Order, Third Order on Reconsideration of the Second Report and Order, and Third Report and Order, FCC 15-80, 30 FCC Rcd 7493 (2015), modified by Erratum, 30 FCC Rcd 8518 (2015) (Part 1 R&O)). Of relevance to the information collection at issue here, the Commission amended 47 CFR 1.2110(n), which requires designated entity licensees to file with the Commission an annual report for each license it holds that was acquired using designated entity benefits and that, as of August 31 of the year in which the report is due, remains subject to designated entity unjust enrichment requirements. Because the Commission amended 47 CFR 1.2110(n), the Commission is also amending FCC Form 611-T, which is the form that is used to collect this information.

Federal Communications Commission.
Marlene H. Dortch,
Secretary, Office of the Secretary.

[FR Doc. 2016-13088 Filed 6-7-16; 8:45 am]

BILLING CODE 6712-01-P